DEPARTMENT OF DEFENSE

Office of the Secretary

[Transmittal No. 22-66]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives with attached Transmittal 22-66, Policy Justification, and Sensitivity of Technology.

Dated: August 16, 2024.
Patricia L. Toppings,
OSD Federal Register Liaison Officer, Department of Defense.

Transmittal No. 22-66

Notice of Proposed Issuance of Letter of Offer Pursuant to Section 36(b)(1) of the Arms Export Control Act, as amended

(i) Prospective Purchaser: Republic of Korea

(ii) Total Estimated Value:

Major Defense Equipment * | $1.0 billion
Other | $0.5 billion
TOTAL | $1.5 billion

(iii) Description and Quantity or Quantities of Articles or Services under Consideration for Purchase:

Major Defense Equipment (MDE):

Eighteen (18) CH-47F Helicopters

Forty-two (42) T55-GA-714A Engines (36 installed, 6 spares)

Twenty-two (22) Common Missile Warning Systems (CMWS) (18 installed, 4 spares)

Forty-four (44) secure radios, RT-1987 (36 installed, 8 spares)

Non-MDE:

Also included are AN/APR-39 Radar Warning Systems; AN/ARC-220 HF Airborne Communications Systems; AN/APX-123A IFF transponders; AN/ARN-147; AN/ARN-153; AN/APN-209; secure radios; U.S. Government and contractor engineering, technical and logistics support services; repair and return; storage; and other related elements of logistical and program support.

(iv) Military Department: Army (KS-B-ZJG)

(v) Prior Related Cases, if any: None

(vi) Sales Commission, Fee, etc., Paid, Offered, or Agreed to be Paid: None

(vii) Sensitivity of Technology Contained in the Defense Article or Defense Services

Proposed to be Sold: See Attached Annex

(viii) Date Report Delivered to Congress: December 6, 2022

* As defined in Section 47(6) of the Arms Export Control Act.

POLICY JUSTIFICATION

Korea—CH-47F Chinook Helicopters

The Republic of Korea (ROK) has requested to buy eighteen (18) CH-47F helicopters; forty-two (42) T55-GA-714A engines (36 installed, 6 spares); twenty-two (22) Common Missile Warning Systems (CMWS) (18 installed, 4 spares); and forty-four (44) secure radios, RT-1987 (36 installed, 8 spares). Also included are AN/APR-39 Radar Warning Systems; AN/ARC-220 HF Airborne Communications Systems; AN/APX-123A IFF transponders; AN/ARN-147; AN/ARN-153; AN/APN-209; secure radios; U.S. Government and contractor engineering, technical and logistics support services; repair and return; storage; and other related elements of logistical and program support. The estimated total program cost is $1.5 billion.

This proposed sale will support the foreign policy goals and national security objectives of the United States by improving the security of a major ally that is a force for political stability and economic progress in the Asia-Pacific region.

The proposed sale will improve the ROK's capability to meet current and future threats by strengthening its Army heavy lift capability. The CH-47F will allow the ROK to conduct missions in support of bilateral operational plans which include, but are not limited to, medical evacuation, search and rescue, parachute drops, and disaster relief. The ROK will have no difficulty absorbing this equipment into its armed forces.

The proposed sale of this equipment and support will not alter the basic military balance in the region.

The principal contractor will be Boeing, Ridley Park, PA. There are no known offset agreements proposed in connection with this potential sale.

Implementation of this proposed sale will not require the assignment of any additional U.S. Government or contractor representatives to ROK.

There will be no adverse impact on U.S. defense readiness as a result of this proposed sale.

Transmittal No. 22-66

Notice of Proposed Issuance of Letter of Offer Pursuant to Section 36(b)(1) of the Arms Export Control Act

Annex

Item No. vii

(vii) Sensitivity of Technology:

1. The CH-47F Chinook Cargo Helicopter is a medium lift aircraft which includes two T55-GA-714A Engines and an advanced cockpit that features five multi function displays, four-axis coupled flight director, digital map, and Dual Embedded Global Positioning System/Inertial Navigation System (GPS/INS) (EGI).

a. The AN/APR-39 Radar Warning System is a lightweight radar receiver(s) for aircraft applications that provide warning of radar-detected threats to allow appropriate evasive maneuvers and deployment of countermeasures. The system has the capability of detecting all pulse radars normally associated with hostile surface-to-air missiles, airborne intercepts, and anti-aircraft weapon systems.

b. The AN/AAR-57 Common Missile Warning System (CMWS) is an integrated infrared (IR) countermeasures suite utilizing five ultraviolet (UV) sensors to display accurate threat location and dispense decoys/countermeasures either automatically or under pilot/crew control to defeat incoming missile threats.

c. The AN/ARC-220 HF airborne communications system provides embedded Automatic Link Establishment (ALE), serial tone data modem, text messaging and GPS position reporting functions.

d. The AN/APX-123A, Identification Friend or Foe (IFF) Transponder, is a space diversity transponder and is installed on various military platforms. It provides identification, altitude, and surveillance reporting in response to interrogations from airborne, ground-based and/or surface interrogators.

e. The AN/ARN-147 combines all VHF Omni Ranging/Instrument Landing System (VOR/ILS) functions into one compact, lightweight, VHF navigation receiver.

f. The AN/ARN-153 is an airborne receiver-transmitter component of the Tactical Airborne Navigation (TACAN) avionics system. The AN/ARN-153(V) supports four modes of operation modes; receive, transmit, air-to-air receive, air-to-air transmit-receive.

g. The AN/APN-209 is a pulse type, absolute (radar) altimeter that provides an accurate indication of aircraft altitude over all types or terrain surfaces such as foliage, deep snow, water, and land.

2. The highest level of classification of defense articles, components, and services included in this potential sale is SECRET.

3. If a technologically advanced adversary were to obtain knowledge of the hardware and software elements, the information could be used to develop countermeasures or equivalent systems which might reduce system effectiveness or be used in the development of a system with similar or advanced capabilities.

4. A determination has been made that the Republic of Korea can provide substantially the same degree of protection for the sensitive technology being released as the U.S. Government. This sale is necessary in furtherance of the U.S. foreign policy and national security objectives outlined in the Policy Justification.

5. All defense articles and services listed in this transmittal have been authorized for release and export to the Republic of Korea.

[FR Doc. 2024-18764 Filed 8-20-24; 8:45 am]

BILLING CODE 6001-FR-P